DEPARTMENT OF ENERGY

Federal Energy Regulatory Commission

[Docket No. RP00-164-000]

Northern Natural Gas Company; Notice of Proposed Changes in FERC Gas Tariff

January 21, 2000.

FOR FURTHER INFORMATION CONTACT: Take notice that on January 14, 2000, Northern Natural Gas Company (Northern) tendered for filing to become part of Northern's FERC Gas Tariff, Fifth Revised Volume No. 1, the following tariff sheet, proposed to become effective on February 14, 2000:

2. Third Revised Sheet No. 146

Northern states that the above-referenced tariff sheet is filed to revise the termination provisions of Northern's Interruptible Deferred Delivery (IDD) service under Rate Schedule IDD.

Northern further states that copies of the filing have been mailed to each of its customers and interested State Commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-1953 Filed 1-26-00; 8:45 am]

BILLING CODE 6717-01-M